DEPARTMENT OF HEALTH AND HUMAN SERVICES

Indian Health Service

25 CFR Part 900

Contracts Under the Indian Self-Determination and Education Assistance Act; Change of Address for the Civilian Board of Contract Appeals

AGENCY: Indian Health Service, HHS.

ACTION: Final rule; change of address.

The Indian Health Service is revising its regulations governing contracts under the Indian Self-Determination and Education Assistance Act to reflect a change of address due to a move for the Civilian Board of Contract Appeals (CBCA).

DATES: This rule change is effective December 21, 2006.

FOR FURTHER INFORMATION CONTACT: Hankie Ortiz, Director, Division of Regulatory Affairs, Records Access, and Policy Liaison, Indian Health Service, 801 Thompson Avenue, Suite 450, Rockville, Maryland 20852, Telephone (301) 443-1116.

SUPPLEMENTARY INFORMATION:

I. Background

Regulations promulgated by the Indian Health Service to govern the administration of contracts under the Indian Self-Determination and Education Assistance Act reference an address for the Interior Board of Contract Appeals (IBCA). Effective January 6, 2007, the Interior Board of Contract Appeals will be consolidated into the Civilian Board of Contract Appeals (CBCA). See 71 FR 65825 (Nov. 9, 2006). This action reflects the change in name and provides the CBCA's new street address.

II. Procedural Requirements

A. Determination To Issue Final Rule Effective in Less than 30 Days

IHS has determined that the public notice and comment provisions of the Administrative Procedure Act, 5 U.S.C. 553(b) do not apply to this rulemaking. The changes being made relate solely to matters of agency organization, procedure and practice. They therefore satisfy the exemption from notice and comment in 5 U.S.C. 553(b)(A).

B. Review Under Procedural Statutes and Executive Orders

IHS has reviewed this rule under the following statutes and Executive Orders governing rulemaking procedures: The Unfunded Mandates Reform Act of 1995, 2 U.S.C. 1501 et seq.; the Regulatory Flexibility Act, 5 U.S.C. 601 et seq.; the Small Business Regulatory Enforcement Fairness Act of 1996, 5 U.S.C. 801 et seq.; the Paperwork Reduction Act, 44 U.S.C. 3501 et seq.; Executive Order 12630 (Takings); Executive Order 12866 (Regulatory Planning and Review); Executive Order 12988 (Civil Justice Reform); Executive Order 13132 (Federalism); Executive Order 13175 (Tribal Consultation); and Executive Order 13211 (Energy Impacts). IHS has determined that this rule does not trigger any of the procedural requirements of those statutes and Executive Orders, since this rule merely changes the street address for the CBCA.

List of Subjects in 25 CFR Part 900

Administrative practice and procedure, Buildings and facilities, Claims, Government contracts, Government property management, Grant programs—Indians, Health care, Indians, Indians—business and finance.

For the reasons stated in the preamble, IHS amends its regulations in 25 CFR Part 900 as follows:

PART 900—[AMENDED]

1. The authority citation for part 900 continues to read as follows:

Authority: 25 U.S.C. 450f et seq.

2. Section 900.222, paragraph (e) is amended by removing “Interior Board of Contract Appeals (IBCA)” and adding in its place “Civilian Board of Contract Appeals (CBCA)” and by removing “801 North Quincy Street, Arlington, VA 22203” and adding in its place “1800 M Street, NW., 6th Floor, Washington, DC 20036”.

3. Section 900.229, paragraphs (a) and (b)(4) are amended by removing “IBCA” and adding in its place “CBCA”.

Dated: December 14, 2006.
Robert G. McSwain,
Deputy Director, Indian Health Service.

[FR Doc. 06-9810 Filed 12-20-06; 8:45 am]

BILLING CODE 4165-16-M